DEPARTMENT OF COMMERCE

National Oceanic and Atmospheric Administration

[Docket No. 011102267-1267-01; I.D. No. 102301B]

Financial Assistance for Marine Mammal Stranding Networks Through the John H. Prescott Marine Mammal Rescue Assistance Grant Program

AGENCY: National Marine Fisheries Service (NMFS), National Oceanic and Atmospheric Administration (NOAA), Commerce.

ACTION: Notice of solicitation for applications.

SUMMARY: The National Marine Fisheries Service (NMFS) (hereinafter “we” or “us”) issues this document to solicit applications for Federal assistance under the John H. Prescott Marine Mammal Rescue Assistance Grant Program (Prescott Stranding Grant Program). This document describes how you can apply for funding under the Program, and how we will determine which applications will be funded.

Under the Prescott Stranding Grant Program, we will provide financial assistance (up to $100,000 in Federal funds, with a 25 percent non-federal cost-sharing requirement) to eligible marine mammal stranding network participants for (1) the recovery or treatment of stranded marine mammals and (2) the collection of data from living or dead stranded marine mammals for scientific research regarding marine mammal health. Financial assistance will also be given for facility operation costs that are directly related to (1) and (2), above. Proposals will be reviewed, ranked within Regional or National priority pools based on technical merit, and final selections will take into account other policy factors including level of priority, stranding needs, and equitable distribution of funds nationally.

DATES: We must receive your application by 5 p.m. (local time) March 15, 2002 in one of the offices listed in section I.I. (Applications Addresses) of this document. You must submit one signed original and two copies of the completed application (including supporting information). We will not accept facsimile or electronic applications.

ADDRESSES: You can obtain an application package from, and send your completed application(s) to, the NMFS Regional Administrator or the Protected Resources Office Director located at any of the offices listed in section I.I. Application Addresses of this document. You may also obtain the application package from the NMFS Protected Resources Home Page (see Section I.J. Electronic Access Addresses). However, we cannot accept completed applications electronically at this time.

FOR FURTHER INFORMATION CONTACT: Ms. Colleen Coogan or Dr. Teri Rowles, Marine Mammal Health and Stranding Response Program 301-713-2322 ext 144, or 178 or via e-mail: PrescottGrantFR.comments@noaa.gov

SUPPLEMENTARY INFORMATION:

I. Introduction

We are soliciting applications for Federal assistance pursuant to The Marine Mammal Rescue Assistance Act of 2000 which amended the Marine Mammal Protection Act (MMPA) to establish the John H. Prescott Marine Mammal Rescue Assistance Grant Program (16 U.S.C. 1421f-1) (hereafter referred to as the Prescott Stranding Grant Program). This document describes how you can apply for funding appropriated in fiscal years (FY) 2001 and 2002 under the Prescott Stranding Grant Program and how we will determine which applications will be funded.

A. Background

The Prescott Stranding Grant Program is conducted by the Secretary of Commerce to provide grants or cooperative agreements for eligible stranding network participants (see section I.E. of this document) for (1) recovery or treatment of marine mammals, (2) collection of data from living or dead stranded marine mammals ¹ for scientific research regarding marine mammal health and (3) for facilities operations costs that are directly related to these purposes. The Prescott Stranding Grant Program will be administered through the NMFS Marine Mammal Health and Stranding Response Program.

¹ For purposes of this document, a stranded marine mammal is a marine mammal in the wild that is (1) dead and on a beach, shore, or in waters under the jurisdiction of the United States or (2) is live and on a beach or shore of the United States and unable to return to the water, is in apparent need of medical attention, or is in waters under the jurisdiction of the United States but is unable to return to its natural habitat under its own power or without assistance.

The Marine Mammal Health and Stranding Response Program (MMHSRP) was formalized in 1992 to fulfill the mandates of the Marine Mammal Health and Stranding Response Act, which amended the MMPA in 1992 (16 U.S.C. 1421). The MMHSRP was established to facilitate the collection and dissemination of reference data on marine mammals and health trends of marine mammal populations in the wild; correlate the health of marine mammals and marine mammal populations in the wild with available data on physical, chemical, and biological environmental parameters; and to coordinate effective responses to unusual mortality events. Steps to achieve these goals, as well as the goals of the Prescott Stranding Grant Program, include the enhancement of rescue, care and treatment of stranded marine mammals; collection of life history data and other biomedical data that would allow comparison of the causes of illness or deaths in stranded marine mammals with physical, chemical, and biological environmental parameters; development of baselines of “normal” stranding causes and rates for rapid detection of unusual mortality events; collection of samples for archival for future retrospective studies on causes of mortality or illness; collection of tissues for archival in the National Marine Mammal Tissue (and Serum) Bank; and guidance for rescuing and rehabilitation of stranded marine mammals, collection of specimens, quality assurance, and analysis of tissue samples. Grant proposals based on the priorities specified in Section II of this document, will facilitate achievement of MMHSRP goals while fulfilling the purposes and requirements of the Prescott Stranding Grant Program.

It is NMFS's intent to also reserve a portion of funds to make emergency assistance available for catastrophic stranding events throughout the year on an as-needed basis. Responders to such stranding events should immediately contact their Regional Office (see section I.I. Application Addresses). Proposals will be required to follow the same application, merit review and selection process established under this notice.

B. Objectives

For the 2001/2002 Prescott Stranding Grant Program announced in this document, we have focused on the most important needs of the Marine Mammal Health and Stranding Response Program and the stranding network. These needs are reflected in the funding priorities listed in section II of this document. Successful applications will be those aimed at helping to support and increase the quality of care (recovery or treatment) for stranded marine mammals or to increase our understanding of the health of marine mammal populations in the wild, of trends in strandings, or of the causes of marine mammal mortalities, anomalies, and strandings in the wild. For data collection funding, efforts to increase our understanding of the correlation between physical, chemical, and environmental parameters and marine mammal health and strandings will be considered priorities.

C. Changes in the Implementation of the Prescott Stranding Grant Program Since the Posting of the Draft Implementation Plan

On June 7, 2001, a draft of our plan to implement the Prescott Stranding Grant Program was posted on our website, and comments were solicited from stranding network participants. As a result of comments received, a number of changes have been made that are reflected in this document. Therefore, we encourage you to read the entire document before preparing your application.

We have changed the maximum size of the Federal share of the grant to $100,000. We have clarified the eligibility criteria, and expanded the list of eligible applicants to include qualified Federal employees that work for agencies other than the Departments of Commerce or Interior, if those agencies have the authority to accept Federal assistance. We have reformatted the priority lists, and edited and added some priorities in response to public comments.

D. Funding

We expect to have approximately $7.1 million available for grant awards for grants under this solicitation. These funds include approximately $3.7 million appropriated for the 2001 fiscal year, and approximately $4 million appropriated for FY 2002 (Pub. L. 107-77). We will withhold $600,000 to make available for catastrophic stranding events that occur before the next grant cycle. The maximum Federal award for each project will be $100,000. For this solicitation, stranding network members may receive (as Principal Investigators) up to two grants for clearly separate projects. Researchers associated with the Network that are not authorized network participants (through a Letter of Agreement (LOA), MMPA section 109(h), or Northwest Contingency Plan designation) may receive only one grant (as Principal Investigator) under this solicitation if a network participant is a co-Investigator. However, we cannot guarantee that sufficient funds will be available to make awards for all proposals deserving funding.

Publication of this document does not obligate Commerce/NOAA to any specific award or to obligate any part of the entire amount of funds available. If an application for a financial assistance award is selected for funding, NOAA/NMFS has no obligation to provide any additional prospective funding in connection with that award in subsequent years.

E. Eligibility

For this solicitation, you are eligible to apply for a grant or a cooperative agreement under the Prescott Stranding Grant Program if you are a U.S. “stranding network participant” that is not a Department of Commerce or Department of Interior employee. Specifically, you are eligible if:

1. You are an eligible stranding network participant that has been active over the past 3 years and are in good standing.² A network participant in good standing is an organization that has a current Letter of Agreement (LOA) for stranding response (either live or dead animal response) from a NMFS Regional Administrator; that has a current letter of designation from a NMFS LOA holder (designee); or you are a researcher collaborating with a network participant that is listed as a co-investigator on your application, you have remained active in network projects during the past 3 years, and you are holding a current letter from a Regional Administrator or the NMFS Office of Protected Resources authorizing you pursuant to 50 CFR 216.22 to collect materials from stranded marine mammals for research purposes.

² In good standing status will be determined by the Regional Stranding Coordinators during the initial screening for applicants' eligibility, and means:

a. All the Principal Investigators who hold or have held permits for scientific research, enhancement, or public display under the Marine Mammal Protection Act or Endangered Species Act must have fulfilled all permit requirements, including but not limited to reports and publications and must have fulfilled the terms of any enforcement actions. Adverse permit actions will be considered on a case by case basis in terms of meeting this requirement.

b. The stranding participant has complied with the terms and responsibilities of the Letter of Agreement listed below, or, for a participant authorized under MMPA section 109(h) or Northwest Region Contingency Plan participant, has met the following responsibilities consistently. These responsibilities include: timely response to reports of strandings, cooperation with state, local, and Federal officials, assisting local officials in the clean-up of beach areas resulting from collection or necropsy activities, collecting information or samples as requested by NMFS whenever possible, timely submission of reports to the Regional Coordinator (basic or Level A data reporting which includes investigator's name, species, stranding location, number of animals, date and time of stranding and recovery, length and condition, and sex; marine mammal parts retention or transfer; annual reports), cooperation with state and local officials in the disposition of stranded marine mammals, cooperation with other stranding network participants.

c. The network participant cooperates with NMFS regarding the timely submission of Level B (supplementary information regarding sample collection related to life history and to the stranding event) and C (necropsy results) data and materials collected, when collected and requested.

d. Is not under current enforcement investigation for activities involving the take of marine mammals contrary to the MMPA/ESA regulations and does not have a notice of violation by NMFS pending resolution with regards to policies governing the goals and operations of the Stranding Network.

2. You are a state, local, or eligible federal government employee participating pursuant to MMPA section 109(h) (16 U.S.C. 1379(h)), and working in good standing ² with a Regional Administrator during the past 3 years in an area of geographic need (municipality or larger region with no existing responder).

3. You are in the Northwest Region (Washington and Oregon), are an active stranding network participant in good standing ², and are (1) an individual or organization named in the National Contingency Plan for Response to Marine Mammal Unusual Mortality Events (Wilkinson, 1996) that has been actively involved in stranding response, data collection and submission of data as directed by the NMFS Regional Stranding Coordinator during the past 3 years or (2) an individual or organization in the 2002 National Contingency Plan for Response to Marine Mammal Unusual Mortality Events.

We support cultural and gender diversity in our programs and encourage eligible women and minority individuals and groups to submit applications. Furthermore, we recognize the interest of the Secretaries of Commerce and Interior in defining appropriate marine management policies and programs that meet the needs of the U.S. insular areas, so we also encourage applications from eligible individuals, government entities, and businesses in U.S. insular areas as defined by the Marine Mammal Protection Act (16 U.S.C. 1362, section 3(14)). This includes the Commonwealth of Puerto Rico, the U. S. Virgin Islands, American Samoa, Guam, and Northern Mariana Islands.

We are strongly committed to broadening the participation of Minority Serving Institutions (MSIs), which include Historically Black Colleges and Universities, Hispanic Serving Institutions, and Tribal Colleges and Universities, in our programs. The DOC/NOAA/NMFS vision, mission, and goals are to achieve full participation by MSIs, to advance the development of human potential, strengthen the Nation's capacity to provide high-quality education, and increase opportunities for MSIs to participate in and benefit from Federal financial assistance programs. Therefore, we encourage all eligible applicants to include meaningful participation of MSIs whenever practicable.

You are not eligible to submit an application under this program if you are an employee of NMFS or any other organizations within the Department of Commerce or the Department of Interior. NMFS employees (whether full-time, part-time, or intermittent) are not allowed to help you prepare your application, except that the Marine Mammal Health and Stranding Response Program staff (at the regional or national level) may provide you with information regarding statistics on strandings, MMHSRP program goals and needs, ongoing programs, funding priorities, and, along with Federal Program Officers, can provide information on application procedures, and completion of application forms. Since this is a competitive program, NMFS and NOAA employees will not provide assistance in conceptualizing, developing, or structuring proposals, or write letters of support for any proposal. For activities that involve participation of NOAA employees, for example in the National Marine Mammal Tissue Bank (NMMTB) or analyses of tissues for contaminants, employees of NOAA or the National Institute of Standards and Technology may write a letter stating that they are collaborating with the project, or that the person or organization is trained to participate in the NMMTB or is currently participating in the National Marine Analytical Quality Assurance Program.

Unsatisfactory performance under prior or current Federal awards may result in your application not being considered for funding for this fiscal year in this program.

Note for proposed work beyond the normal scope of stranding network activities, the applicant is responsible for obtaining all the Federal, state, and local government permits and approvals including scientific research permits under the Endangered Species Act or Marine Mammal Protection Act if needed and permits or letters of agreement for work in National Marine Sanctuaries, National Parks, or National Seashores for activities that would be conducted on such sites. For information on permit requirements and applications procedures, contact the NMFS Office of Protected Resources (see CONTACTS) or see the following Web site: http://www.nmfs.noaa.gov/prot_res/PR1/Permits/pr1permits_types.html.

For research on live stranded marine mammals, if the applicant stranding network or research participant works for a facility (University, Aquarium, live animal research facility) with an Institutional Animal Care and Use Committee, that applicant must have approval prior to obligation of funds (as required by the regulations under the Animal Welfare Act, 9 CFR 2.30-2.31) and a Marine Mammal Protection Act/Endangered Species Act permit if the research is intrusive (50 CFR 216.27(c)(6)) or if animals must be held after rehabilitation has been completed.

Intrusive research means a procedure conducted for bona fide scientific research involving: a break in or cutting of the skin or equivalent, insertion of an instrument or material into an orifice, introduction of a substance or object into the animals' immediate environment that is likely either to be ingested or to contact and directly affect animal tissues (i.e., chemical substances), or a stimulus directed at animals that may involve a risk to health or welfare or that may have an impact on normal function or behavior (i.e., audio broadcasts directed at animals that may affect behavior or brainstem auditory evoked responses). Activities directly related to the individual animal's health assessment, accepted diagnostics, treatment, or monitoring are authorized under the stranding authorization and do not require an additional research permit.

F. Duration and Terms of Funding

We will award grants or cooperative agreements for a maximum award period of 3 years; however the total Federal share of each award is fixed at a maximum of $100,000 regardless of the funding period requested. We will not accept proposals requesting incrementally funded projects under the Prescott Stranding Grant Program during this grant cycle. If you have received an award and have not expended all the awarded funds by the end of the grant period and wish to continue work on the project beyond the funding period with money already obligated, you may notify the grants officer 30 days prior to the end of the grant to determine if you are eligible for a no-cost extension. If, however, the money is expended and you want funds to continue the project, you must submit another proposal during the next grant cycle subject to the competitive process for consideration.

If we select your application for funding, we have no obligation to provide any additional future funding in connection with that award. Renewal of an award to increase funding up to the maximum of $100,000 in the Federal share, or extend the period of performance, is totally at our discretion.

G. Cost Sharing

The Prescott Stranding Grant Program legislation requires cost sharing in order to leverage the limited funds available for this program and to encourage partnerships among government, private organizations, non-profit organizations, the stranding network, and academia to address the needs of marine mammal health and stranding response. You must provide a minimum cost share of 25 percent of total project costs (Federal share of project costs cannot exceed $100,000 and 75 percent of the total). For example, if the total project costs were $133,334, then the federal cost share would be 75 percent of $133,334 or $100,000 and your cost share would be $33,334 (25 percent of $133,334); similarly if the proposed total budget for your project is $100,000, the government portion would be $75,000 and your 25 percent contribution would be $25,000. If your application does not comply with these cost share requirements, we will return it to you and will not consider it for funding for this funding cycle. You may include cost share for more than 25 percent of the total costs, but this obligation will be binding.

We will determine the appropriateness of all cost sharing proposals, including the valuation of in-kind contributions, according to the regulations codified at 15 CFR 14.23 and 24.41, posted on our webpage. An in-kind contribution is a non-cash contribution, donated or loaned, by a third party to the applicant. In general, the value of in-kind services or property you use to fulfill your cost share will be the fair market value of the services or property. Thus, the value is equivalent to the cost for you to obtain such services or property if they had not been donated, or to obtain such services or property for the period of the loan. You must document the in-kind services or property you will use to fulfill your cost share. If we decide to fund your application, we will require you to account for the total amount of cost share included in the award document.

H. Catalog of Federal Domestic Assistance

The Prescott Stranding Grant Program will be listed in the “Catalog of Federal Domestic Assistance” under number 11.439, entitled Marine Mammal Data Program. This information should be included on the Application Form, 424, space 10 (see How to Apply, Section III, below).

I. Application Addresses

a. For proposals for activities that will take place in the NMFS Northeast Stranding Region (Maine, New Hampshire, Massachusetts, Rhode Island, Connecticut, New York, New Jersey, Delaware, Maryland, Virginia) contact: Northeast Fisheries Science Center, NMFS, Dana Hartley, 166 Water St., Woods Hole, MA 02543, (508) 495-2090 or dana.hartley@noaa.gov.

b. For proposals for activities that will take place in the NMFS Southeast Stranding Region (North Carolina, South Carolina, Georgia, Florida, Alabama, Mississippi, Louisiana, Texas, Puerto Rico, U.S. Virgin Islands) contact: Southeast Region, NMFS, Kyle Baker, 9721 Executive Center Drive, North, St. Petersburg, FL 33702-2432, (727) 570-5312 or Kyle.Baker@noaa.gov.

c. For proposals for activities that will take place in the NMFS Southwest Stranding Region (California, Hawaii, Guam, U.S. Somoa, Northern Mariana Islands) contact: Southwest Region, NMFS, Joe Cordaro, 501 West Ocean Boulevard, Suite 4200, Long Beach, CA: 90802-4213, (562) 980-4017 or joe.cordaro@noaa.gov.

d. For proposals for activities that will take place in the NMFS Northwest Stranding Region (Washington and Oregon) contact: Northwest Region, NMFS, Brent Norberg, 7600 Sand Point Way, N.E., Building 1, Seattle, WA 98115, (206) 526-6733 or brent.norberg@noaa.gov.

e. For proposals for activities that will take place in the NMFS Alaska stranding region (Alaska) contact: Alaska Region, NMFS, Kaja Brix, Federal Building, 709 West 9th Street, 14th Floor, Juneau, AK 99802-1668, (907) 586-7824 or kaja.brix@noaa.gov.

f. For proposals for activities that will take place in more than one region or are national in scope contact: Office of Protected Resources, NMFS, Teri Rowles, 1315 East West Highway, Silver Spring, MD, 20910, 301-713-2322 ext 178 or teri.rowles@noaa.gov.

J. Electronic Access Addresses

This solicitation, the application package, and supplementary documents are available on the NMFS Office of Protected Resources Home Page at: http://www.nmfs.noaa.gov/prot_res/PR2/Health_and_Stranding_ Response_Program/Prescott.html. Title IV of the Marine Mammal Protection Act, the Marine Mammal Health and Stranding Response Program is available at: www.nmfs.noaa.gov/prot_res/laws/MMPA/MMPA.html. Information on MMPA and ESA research and enhancement permits can be found at: http://www.nmfs.noaa.gov/prot_res/PR1/Permits/pr1permits_types.html.

II. Funding Priorities

Your proposal must address and identify one of the priorities listed here as it pertains to species that the MMPA provides under the authority of the Department of Commerce (cetaceans and pinnipeds, except walrus). If you identify more than one priority, you must list first on your application the priority that most closely reflects the objectives of your proposal.

The priorities are not listed in any particular order and each is of equal importance. These priorities include projects that generally increase the quality of care (recovery or treatment) for stranded marine mammals or increase our understanding of the health of marine mammal populations in the wild, of trends in strandings, or of the causes of marine mammal mortalities, anomalies, and strandings in the wild. Also, efforts to increase our understanding of the correlation between physical, chemical, and environmental parameters and marine mammal health and strandings will be considered a priority for data collection funding. Projects involving any new construction will not be considered, however, projects that involve construction for build-outs, alterations, upgrades and renovations would address a number of the listed priorities.

Note that the purpose of the priority lists is to guide applicants in proposal development by identifying those proposals that will best compete during this grant cycle for these limited funds, and to provide technical reviewers with guidance for their evaluations. To this end, Regional and National priorities are identified here, and represent the projects that will best ensure that the Prescott Stranding Grant Program is successfully implemented (by providing grants for the recovery or treatment of marine mammals, the collection of data from living or dead stranded marine mammals for scientific research regarding marine mammal health, and facility operation costs that are directly related to those purposes) in the manner that best helps the regions achieve the goals of the Marine Mammal Health and Stranding Response Program. To ensure that the goals of the Prescott Stranding Grant Program are met, including equitable distribution of funds, proposals will be pooled by regional or national aspect according to the priority addressed by the applicant. If a proposal unclearly identifies a priority, or addresses a different priority than the one indicated by the applicant, NMFS may assign the most appropriate priority. Proposals will then compete for funds within the appropriate regional/national priority pool.

Specifically the following items are the national or specific regional priorities for this solicitation:

A. Recovery or Treatment of Marine Mammals (and associated operational costs)

National

1. Operational costs to enhance and support rehabilitation facilities.

2. Operational costs to improve access to veterinary care, including on-site (lab or field) equipment or instruments for more rapid assessment of medical condition or monitoring of treatment response.

3. Post release monitoring to monitor the success of animals released from rehabilitation or beach release from mass strandings.

4. Equipment costs to increase the safety of transport for marine mammals, especially for cetaceans.

Northeast Region

1. Enhanced preparedness for mass stranding events through, for example, establishment of reference baseline laboratories, through training, or improvement of equipment and resource availability.

2. Enhanced preparedness for “out of habitat” (marine mammals observed outside of their range or normal environment and in apparent distress) rescues.

3. Enhancing transport safety for live strandings, including, for example, contracts for air transport, rescue ambulances.

4. Improvement of identification and tracking of offshore, floating, dead large whales or unusual species or numbers of dead marine mammals.

5. Increased outreach efforts in areas of heavy human and protected species use, such as rookeries, to reduce harassment and injuries or illnesses caused by other human impacts (e.g. boat strikes on seals) to reduce the need for rehabilitation.

6. Enhanced capability to respond to stranded marine mammals impacted by oil spills including treatment and investigations.

7. Collaborative efforts to improve assessment of seal strandings, for example seal assessment training for collaborating network participants, equipment, and supplies.

8. Outreach projects to educate the public about normal seal behavior vs stranded seal situation.

9. Renovating rehabilitation space for marine mammals in anticipation of rehabilitation facility guidelines, including expansion of holding capabilities within existing facilities.

10. Increase the number of needed personnel resources at certain facilities, including veterinary care. Note, salaries must be for work specific to the project.

Northwest Region

1. Upgrading and enhancing network operations and facilities to handle and treat stranded sick or injured marine mammals including threatened, endangered and depleted pinnipeds and small cetaceans (porpoises, dolphins, killer whales).

2. Enhancing facilities for handling, stabilization and/or treatment of stranded odontocetes (killer whales, dolphins, porpoises).

3. Enhancement of operations and facilities in anticipation of NMFS Rehabilitation Facilities Guidelines.

Southeast Region

1. Enhanced preparedness for live and mass stranded cetacean response, including training, response planning, outreach, and equipment.

2. Enhanced capability to respond to stranded marine mammals impacted by oil spills including response planning, training, and equipment.

3. Enhancing live marine mammal transport safety e.g., contract for air transport, rescue ambulances.

4. Upgrading current rehabilitation facilities. Putting priority on facilities that frequently receive animals (based on historic statistics) and for upgrades in anticipation of rehabilitation guidelines.

Southwest Region

1. Operational costs for stranding response and live animal treatment. For this Region, priority will be given to smaller facilities.

2. Enhancing response capabilities (including operational costs) during El Nino years.

3. Enhanced capability to respond to stranded marine mammals impacted by oil spills including response planning, training, and equipment.

4. Enhancing the response to live stranded cetaceans and pinnipeds in Hawaii.

5. Operations costs for increasing quality of care during normal live stranding events throughout the region.

6. Upgrading facilities in anticipation of rehabilitation facility guidelines.

7. In Hawaii, conduct outreach projects to educate the public about normal seal behavior vs stranded seal situation.

8. Enhancing live cetacean response and transport safety through operational or equipment costs.

Alaska Region

1. Enhanced stranding response throughout the state. Particular need for improved stranding response coverage in remote or rural areas.

2. Enhanced capability for care and treatment of live animals.

3. Enhancing disentanglement response capabilities, particularly with Northern fur seals on the Pribilofs.

4. Enhancing the assessment of rehabilitation and release success.

B. Collection of Data From Living or Dead Stranded Marine Mammals (including operational costs)

National

1. Enhancing consistent response to large whale strandings (except North Atlantic right whales, which have separate funding source) on the East Coast.

2. Enhancing post “unusual mortality event” stranding response for 1-2 years after an event is over.

3. Operational costs to improve in-house sample tracking and archiving and for participation in the National Marine Mammal Tissue Bank.

4. Collecting specimens and data to assess the overall health trends in wild marine mammal populations including the frequency or incidence of diseases and anomalies, the cause and effects of abnormal lesions, and baselines on health. Species of concern for 2001-2002 include bottlenose dolphin, harbor porpoise, California sea lion, Steller sea lion, Hawaiian monk seal, ice seals in the Northeast, pygmy sperm whale, beaked whale, humpback whale, and harbor seal.

5. Collection of health reference data on species that have been subject to unusual mortality events (bottlenose dolphins, California sea lions, harbor seals, gray whales) in the last 5 years.

6. Collection of health reference data on species that are subject to mass strandings (white sided dolphins, beaked whales, pilot whales, common dolphins, rough tooth dolphins).

7. Collection of health data to examine successful rehabilitation including, for example, shifts in microbial flora during rehabilitation.

8. Collection of data on the incidence, pathogenesis, and impacts of marine mammal diseases and conditions that affect survival and releasability. The diseases of particular interest for 2001-2002 are: Brucella, morbillivirus (particularly on West Coast pinnipeds and in bottlenose dolphins of the mid-Atlantic), herpes virus in monk seals and steller sea lions, arborviruses in cetaceans and pinnipeds. However other disease studies will be considered.

9. Enhancement and consistency of data collection and collaborative efforts through the use of protocols and training manuals, in either electronic format or in book format. Electronic formats can include video, imagery, and search capabilities.

10. Enhancing the ability to assess health in stranded marine mammals through the development of new assessment tools and techniques.

11. Enhancing the assessment of the causes of single and mass stranded marine mammals through biological, physiological, or medical diagnostic studies. Animals of particular interest include beaked whales.

12. Necropsy equipment and carcass transport equipment especially for large cetaceans.

13. Upgrading information management systems and capabilities to improve or allow access to National databases.

14. Enhance efforts to achieve consistent Level A data collection and encourage Level B and Level C data collection for dead strandings whenever possible along all U.S. coasts.

Northeast Region

1. Cooperative projects, through partnerships with a variety of marine mammal experts, to conduct studies supporting Marine Mammal Health and Stranding Response Program objectives.

2. Monitoring of survival of beach released, and rehabilitated and released cetaceans (satellite tags and ARGOS support).

3. Support for stranding network staff and capabilities to provide near real time strandings data and information management.

4. Collection of samples for genetic analyses and archival of samples for future retrospective studies.

5. Serological and histopathological analyses of samples collected from stranded marine mammals, using NMFS recognized laboratories.

6. Characterization of ice seal movements from stocks in Canada and relationship to strandings on the U.S. East Coast.

7. Performing quality assurance review and editing of historical stranding data for regional strandings. Particular emphasis to ensure data consistency with existing databases through collaboration with letterholders in the region, and with the Cetacean Distribution Database, compiled by the Marine Mammal Program, National Museum of Natural History, Smithsonian Institution

8. Enhanced evaluation and collection of human interaction evidence from stranded marine mammals, including costs for training collaborating Network Members to detect and document this evidence.

9. Enhance necropsy facilities and other improvements to achieve consistent Level A data collection and encourage Level B and Level C data collection for dead strandings whenever possible.

Northwest Region

1. Investigations of (a) the incidence of human interactions; (b) diseases affecting; and (c) comparative studies of contaminant loading on marine mammals.

2. Investigations of health factors of stranded marine mammals with emphasis on southern resident killer whales.

3. Improve stranded marine mammal data collection and management.

4. Post unusual mortality event monitoring to enhance data collection after an event has ended.

Southeast Region

1. Enhanced collection and evaluation of human interaction evidence from stranded marine mammals.

2. Cooperative investigations using in-depth sample collection for marine mammal health research projects.

3. Serological and histopathologic analyses of samples collected from stranded marine mammals, using quality control techniques.

4. Developing the baselines and health reference data for comparisons with mortalities and disease observed during die-offs.

5. Equipment and facility enhancements for scientific health research e.g., necropsy facilities.

6. Enhance efforts to achieve accurate, consistent Level A data collection and encourage Level B and Level C data collection for dead strandings whenever possible throughout the Region.

Southwest Region

1. Gray whale stranding investigations.

2. Cooperative projects in Hawaii through partnerships with a variety of marine mammal experts, to respond to and conduct studies supporting Marine Mammal Health and Stranding Response Program objectives.

3. Investigations of the prevalence of such diseases as morbillivirus in live stranded odontocetes.

4. Enhancing the ability to detect gun shot wounds and injuries in stranded California sea lions, for example, through conduct of thorough necropsies.

Alaska Region

1. Achieve consistent Level A data collection throughout the state, including remote areas.

2. Collect Level B and Level C data collection for dead strandings whenever possible.

3. Tissue sampling for genetic analyses.

4. Gray whale stranding response for post unusual mortality event.

III. How To Apply

You must follow the instructions in this document in order to apply for a grant or cooperative agreement under the Prescott Stranding Grant Program. Your application must be complete and must follow the format described here. Your application should not be bound in any manner and must be printed on one side only. You must submit one signed original and two signed copies of your application. These unbound applications must be sent to the Application Addresses listed in Section I.I. of this document by the application deadline (see DATES). We strongly recommend early submission of applications to allow some time for review and resubmission with corrections for minor omissions, if necessary. However, time and resource constraints may limit our ability to conduct early reviews, and we are not required to screen applications before the submission deadline, nor do we have to give you an opportunity to correct any deficiencies that cause your application to be rejected.

A complete application package with detailed instructions and supplementary information can be found at our Web site: http://www.nmfs.noaa.gov/prot_res/PR2/Health_and_Stranding_ Response_Program/Prescott.html. Essentially, the complete application must include a number of completed forms described in this section: SF-424 “Application for Federal Assistance”, SF-424B “Assurances—Non-Construction Programs”, and SF 424A “Budget Information—Non-Construction Programs” (with separate sheet for details). Additionally, the application must include a Title Page, Project Narrative, and supporting documentation, as described in this section. Lastly, applicants must submit a completed Form CD-511, “Certification Regarding Debarment, Suspension and Other Responsibility Matters; Drug-Free Workplace Requirements and Lobbying.” In addition, any applicant that has paid or will pay for lobbying using any funds must submit an SF-LLL, “Disclosure of Lobbying Activities”, as required under 15 CFR part 28.

A. Cover Sheet

You must use Office of Management and Budget (OMB) Standard Forms 424 and 424B (4-92) as the cover sheets for each project. You will need the “Catalog of Federal Domestic Assistance” number and Title to complete item 10 of Standard Form 424 (see section I in this document above, the number is 11.439, and the title is “Marine Mammal Data Program”). In order to complete item 16 of Standard Form 424 (may be required for state applicants), see directions in section V.A.5. of this document.

B. Title Page

You must complete a Title Page for each project. You should list on the Title Page the project title, duration, name, affiliation, address and phone number of the Principal Investigator, the project objective, the specific priority to which the application responds (see section II. of this document), and a statement regarding the Federal, non-Federal, and total costs of the project.

C. Project Budget

You must submit a budget for each project, using OMB standard form 424A, Budget Information—Non Construction Programs and associated instructions. On a separate sheet if necessary, you must provide detailed cost estimates showing total project costs. Indicate the breakdown of costs between Federal and non-Federal shares, divided into cash and in-kind contributions. To support the budget, also describe briefly the basis for estimating the value of the cost sharing derived from in-kind contributions.

You may also include in the budget an amount for indirect costs if you have an established indirect cost rate with the Federal government. Indirect costs are essentially overhead costs for basic operational functions (e.g., lights, rent, water, insurance) that are incurred for common or joint objectives and therefore cannot be identified specifically within a particular project. For this solicitation, the Federal share of the indirect costs may not exceed 25 percent of the total proposed direct costs. If you have an approved indirect cost rate above 25 percent of the total proposed direct cost, you may use the amount above the 25-percent level up to the negotiated rate as part of the non-Federal share. You must include a copy of the current, approved, negotiated indirect cost agreement with the Federal government with your application.

We will not consider fees or profits as allowable costs in your application. The total costs of a project consist of all allowable costs you incur, including the value of in-kind contributions, in accomplishing project objectives during the life of the project. A project begins on the effective date of an award agreement between you and an authorized representative of the U.S. Government and ends on the date specified in the award. Accordingly, we cannot reimburse you for time that you expend or costs that you incur in developing a project or preparing the application, or in any discussions or negotiations you may have with us prior to the award. We will not accept such expenditures as part of your cost share.

D. Narrative Project Description

You must provide a narrative description of your project that may be up to 10 pages long. You should use Courier size 12 font, and can single space the narrative. The narrative should demonstrate your knowledge of the need for the project, and show how your proposal builds upon any past and current work in the subject area, as well as relevant work in related fields. You should not assume that we already know the relative merits of the project you describe. You must describe your project as follows:

1. Project goals and objectives. Identify the specific priority, listed earlier in this document, to which the proposed project responds. Identify the problem/opportunity you intend to address and describe its significance to the marine mammal health and stranding response community. State what you expect the project to accomplish.

2. Project impacts. Describe the anticipated impacts of the project on the recovery or treatment of stranded marine mammals or assessment of marine mammal health. Describe how you will make the results of the project available to the marine mammal health and stranding community.

3. Evaluation of project. Specify the criteria and procedures that you will use to evaluate the relative success or failure of a project in achieving its objectives.

4. Need for government financial assistance. Explain why you need government financial assistance for the proposed work. List all other sources of funding you have or are seeking for the project.

5. Federal, state, and local government activities and permits. List any existing Federal, state, or local government programs or activities that this project would affect.

6. Project statement of work. The statement of work is an action plan of activities you will conduct during the period of the project. You must prepare a detailed narrative, fully describing the work you will perform to achieve the project goals and objectives. The narrative should respond to the following questions:

(a) What is the project design? What specific work, activities, procedures, statistical design, or analytical methods will you undertake?

(b) Who will be responsible for carrying out the various activities? Highlight work that will be conducted by co-Investigators. Also, highlight work that will be subcontracted and provisions for competitive subcontracting. The lead organization and person listed as the technical contact, responsible for all technical oversight and implementation of the approved work plan as delineated in the Statement of Work, should be identified as the Principal Investigator. One Principal Investigator must be listed on each project. Project participants or organizations that will have a significant role in conducting the project should be listed as Co-investigators. Organizations or individuals that support the project, for example, network members contributing data or materials, should be referred to as Cooperators or Collaborators.

(c) What are the major products and how will project results be disseminated? Describe products of the project, such as anticipated number of live animals that will be treated, preparation of a manual, video, technique, or piece of equipment. Indicate how project results will be disseminated to potential users.

(d) What are the project milestones? List milestones, describing the specific activities and associated time lines to conduct the scope of work. Describe the time lines in increments (e.g., month 1, month 2), rather than by specific dates. Identify the individual(s) responsible for the various specific activities. Although actual stranding events cannot be predicted, historic stranding data can be used to assess season, species, and likelihood of strandings. This information is critical for us to conduct a thorough review of your application, so we encourage you to provide sufficient detail.

7. Participation by persons or groups other than the applicant. Describe how government and non-government entities, particularly other members of the marine mammal health and stranding response community, will participate in the project, and the nature of their participation. We will consider the degree of participation by members of the marine mammal health and stranding response community in determining which applications to fund.

8. Project management. Describe how the project will be organized and managed. Identify the Principal Investigator and other participants in the project. If you do not identify the Principal Investigator, we will return your application without further consideration. Include a description and copies of Principle Investigator's current LOAs, letter of designation, or letter of research authorization, and any necessary scientific research permits. List the Principle Investigator's and participant's prior or current Federal awards and describe resultant products. Include copies of any agreements between you and the participants describing the specific tasks to be performed. Include copies of any endorsements that you have received from other marine mammal health and stranding response participants related to this project. Provide a statement no more than two pages long of the qualifications and experience (e.g., resume or curriculum vitae) for the Principal Investigator, co-investigators, and any Collaborators, Cooperators, or Consultants and/or subcontractors, and indicate their level of involvement in the project. If any portion of the project will be conducted through Consultants and/or subcontracts, you must follow procurement guidance in 15 CFR part 24, “Grants and Cooperative Agreements to State and Local Governments,” and 15 CFR part 14, “Uniform Administrative Requirements for Grants and Agreements with Institutions of Higher Education, Hospitals, Other Non-Profit, and Commercial Organizations.”

E. Supporting Documentation

You should include any relevant documents and additional information (i.e., maps, background documents, historic stranding statistics) that will help us to understand the project and the problem/opportunity you seek to address. This will not count as a part of the 10 page limit.

IV. Screening, Evaluation, and Selection Procedures

Screening, Evaluation, and Selection Procedures will take place in 4 steps, described in detail in this section: initial screening, technical panel review, merit review, and the final selection by the Selecting Official. The initial review will compile all complete applications submitted by eligible network participants. These applications will be divided for consideration by two technical review panels; one panel to review all west coast applications, one to review all east coast applications. Applications for national priorities will be forwarded to the panel with fewer applications. The technical review panel results will be used to rank the applications within regional (Alaska, Northwest, Southwest, Northeast, Southeast, and National) pools. The merit review will consider the panel comments for the 6 pools of ranked applications and will make recommendations regarding equitable distribution of funds. The Selecting Official will receive the recommendations of the reviewers and will make the final decision regarding which applications will be funded.

A. Initial Screening of Applications

Applications received at any of the NMFS Regional Offices or the Headquarter's Office of Protected Resources, will be screened to ensure that they: were received by the deadline date (see DATES); include OMB form 424, 424 A., and 424 B. signed and dated by an authorized representative (see section III of this document); were submitted by an eligible applicant; provide for at least a 25-percent cost share (see section I.G. of this document); involve an eligible activity; address one of the funding priorities for species under Federal jurisdiction (see section II.A.-B. of this document); and include a budget and a statement of work including milestones (see sections III.C. and III.D.6 of this document); and identify the Principal Investigator (see section III.D.8. of this document). If your application does not conform to these requirements and the deadline for submission has passed, we will return it to you without further consideration. If possible, applications should be submitted as early as possible prior to the end of the application period to provide time for us to return incomplete applications to you for correction or completion prior to the deadline. However, we do not have to screen applications before the submission deadline and may not be able to depending upon time and available resources, nor do we have to give you an opportunity to correct any deficiencies that cause your application to be rejected. Only those proposals satisfying all of the basic requirements above will enter the full evaluation phase of the review process, described in here in Section B.

B. Technical Evaluation of Proposed Projects

After the initial screening, we will convene a panel of appropriate private and public sector marine mammal health and stranding response experts to determine the technical merit of each proposal. Proposals submitted to headquarters and regional offices will be evaluated using the same criteria, as defined here in this section. The panel will provide individual evaluations of each proposal, and no consensus scores will be made. Each proposal will be reviewed by at least three technical reviewers. These reviewers will be required to certify that they do not have a conflict of interest concerning the application(s) they are reviewing and will present their reviews to the panel. They will assign scores to applications based on the criteria below, with weights shown in parentheses. Resultant scores will be used to rank proposals in regional (and national) pools.

a. Soundness of project design/conceptual approach/response capabilities. Applications will be evaluated on the conceptual approach; enhancement of stranding response or treatment; the need for such efforts; the applicability of the project to the objectives of the Prescott Stranding Grant Program in implementing the goals of the MMHSRP and addressing one of the listed priorities; the scientific merit of the data collection to enhance the understanding of the health of marine mammal populations in the wild; the likelihood of project results in the time frame specified in the application; whether there is sufficient information to evaluate the project technically; and, if so, the strengths and/or weaknesses of the technical design relative to securing productive results; whether proposed analyses include quality assurance considerations. (50 percent)

b. Project management and experience and qualifications of personnel. The organization and management of the project will be evaluated. The project's Principal Investigator and other personnel, including Co-investigators, Consultants and Contractors participating in the project, will be evaluated in terms of related experience and qualifications. The amount of collaboration with other network participants reflected by the proposal will be considered. Applications that include Consultants and Contractors will be reviewed to determine if your involvement, as the primary applicant, is necessary to the conduct of the project and the accomplishment of its objectives. Applications from Principal Investigators that are researchers that do not hold LOAs, are not MMPA Section 109(h) participants, and are not on the Northwest Region's contingency plan list must include copies of the applicant's letter of designation, researcher letter of authorization, research permit and any Co-investigator's letters of authorization. (50 percent)

c. Project evaluation. The effectiveness of your proposed methods to monitor and evaluate the success or failure of the project in terms of meeting its original objectives will be examined. (10 percent)

d. Project costs. The justification and allocation of the budget in terms of the work to be performed will be evaluated. Unreasonably high or low project costs will be examined closely and scores may be marked down accordingly. Budget questions will be flagged by reviewers and may become points of negotiation if the proposal is recommended for funding based on technical merit. The appropriateness of the matching funds to the project will be evaluated and the overall use of the facilities operations costs in support of data collection or response and treatment of marine mammals. (15 percent)

Following the technical review, we will determine the score for each individual review and average the individual technical review scores to determine the final technical score for each application. Then, we will list the applications by region or national pool, rank the lists according to the final technical score, and eliminate from further consideration those applications that do not meet the minimum “passing” score of 60 points.

C. Selection Procedures and Project Funding

After projects have been evaluated and ranked, the Marine Mammal Health and Stranding Response Program staff, the NMFS Regional Administrators (RAs) and Office Directors (ODs) will conduct a merit review in consultation with the Marine Mammal Commission and U.S. Fish and Wildlife Service, to consider the results of the scientific technical panel review and develop recommendations for program funding including recommendations for equitable distribution among the NMFS stranding regions. This merit review team may consider any episodic stranding, any anomalous mortality event, or unusual mortality event that occurred in any region in the preceding year; data regarding average annual strandings and mortality events per year per region; and the size of the marine mammal populations inhabiting a geographic area within such a region. They will also consider the actual stranding statistics per region for the previous 5 non-El Nino years and for the last El Nino year. The review team will prepare a written justification for any recommendations for funding that fall outside the ranking or equitable distribution order, or for any cost adjustments.

The Assistant Administrator for Fisheries (AA) is the Selecting Official, and will review the funding recommendations and comments of the review team and determine the projects to be funded. In making the final selections, the AA may consider costs, geographical distribution, financial need, duplication with other federally funded projects, and equitable distribution of funds among the designated stranding regions. As a result, awards are not necessarily made to the highest technically ranked applications.

The final, exact amount of funds, the scope of work, and terms and conditions of a successful award will be determined in pre-award negotiations between you and NOAA/NMFS representatives. The funding instrument (grant or cooperative agreement) will be determined by NOAA Grants Management Division. If the proposed work entails substantial involvement between the applicant and NMFS, a cooperative agreement will be utilized. You should not initiate your project in expectation of Federal funding until you receive a grant award document signed by an authorized NOAA official.

V. Administrative Requirements

The Department of Commerce Pre-Award Notification Requirements for Grants and Cooperative Agreements contained in the Federal Register notice of October 1, 2001 (66 FR 49917), are applicable to this solicitation. The notice advises you of your responsibilities as an applicant for Federal assistance. Contact the Office of Protected Resources for a copy of this notice, or obtain it from the Government Printing Office Web site: http://www.access.gpo.gov/su_docs/aces/aces140.html or the Prescott Stranding Grants Program Web site: http://www.nmfs.noaa.gov/prot_res/PR2/Health_and_Stranding_ Response_Program/Prescott.html.

If you incur any costs prior to receiving an award agreement signed by an authorized NOAA official, you do so solely at your own risk of not being reimbursed by the Government. Notwithstanding any verbal or written assurance that you may have received, the Department of Commerce has no obligation to cover pre-award costs.

A. Your Obligations as a Recipient (Successful Applicant)

If you are awarded a grant or cooperative agreement for a project, you must:

1. Manage the day-to-day operations of the project, be responsible for the performance of all activities for which funds are granted, and be responsible for the satisfaction of all administrative and managerial conditions imposed by the award.

2. Keep records sufficient to document any costs incurred under the award, and allow access to these records for audit and examination by the Secretary of Commerce, the Comptroller General of the United States, or their authorized representatives; and, submit financial status reports (SF 269) to NOAA's Grants Management Division in accordance with the award conditions.

3. Submit annual reports, and for projects extending beyond a year, final reports within 90 days after completion of each project, to the individual identified as the NMFS Program Officer in the funding agreement. The final report must describe the project and include an evaluation of the work you performed and the results and benefits in sufficient detail to enable us to assess the success of the completed project.

We are committed to using available technology to achieve the timely and wide distribution of final reports to those who would benefit from this information. Therefore, we request that you submit final reports in electronic format, in accordance with the award terms and conditions, for publication on the NMFS Protected Resources homepage. You may charge the costs associated with preparing and transmitting your final reports in electronic format to the grant award. We will consider requests for exemption from electronic submission of final reports on a case-by-case basis.

4. In addition to the final report in section V.A.4. of this document, we request that you submit any publications printed with grant funds (such as manuals, surveys, etc.) to the NMFS Program Officer for dissemination to the public. Submit either three hard copies or an electronic version of any such publications.

VI. Comments and Responses

The Draft Implementation Plan for the John H. Prescott Marine Mammal Rescue Assistance Grant Program (Draft Implementation Plan) was posted on our website. Stranding network participants were contacted and asked to review the Draft Implementation Plan and provide comment directly to NMFS prior to publication of the Solicitation for Applications in the Federal Register. Specifically, we requested comments on several areas of the plan including: eligibility criteria for grant applicants, the grant review and selection process, and priorities for funding.

We received 20 separate comment letters from 12 stranding network participants, the Marine Mammal Commission, three organizations representing constituents that include stranding network participants, two new network members, one advocacy organization, and one researcher interested in network activities. Combining similar comments, we received 78 comments in total. The comments and responses are presented below and are grouped topically. Some purely editorial comments have been incorporated into this document and are not listed here.

General Comments

Comment 1: A number of commenters asked whether multiple applications could be submitted by, or multiple grants awarded to, the same network member. Particularly, commenters asked whether multiple grants could be awarded for clearly separate projects, whether a Principal Investigator on a grant could also apply for funding on another grant (as co-PI), and whether a network member that had already received a grant could apply during the year for funds for a catastrophic strandings.

Response: To clarify the terminology used in this document: A Principal Investigator is the lead organization and person listed as the technical contact, responsible for all technical oversight and implementation of the approved work plan as delineated in the Statement of Work. One Principal Investigator must be listed on each project. Project participants or organizations that will have a significant role in conducting the project should be listed as Co-investigators. Organizations or individuals that support the project, for example, network members contributing data or materials, should be referred to as Cooperators or Collaborators.

There is no limit on the number of applications that can be submitted by the same network member. However, there are insufficient funds to award a grant to every member of the network, and we cannot estimate how many qualified applicants will apply for funds. In an attempt to ensure that the greatest number of network participants receive assistance this year, during this funding cycle we intend to award no more than two grants responding to this solicitation to any network member and their organization as a Principal Investigator. Researchers associated with the network that are not independently authorized (through an LOA, 109(h), or identified in the Northwest Contingency Plan) will only be eligible for one grant under this solicitation. Multiple proposals submitted by any individual or organization must identify clearly different projects; (e.g. one for facility operations to support rehabilitation efforts, one for data collection), and must be successful in the competitive process. Network members and researchers may also be identified as Co-investigators or Cooperators on additional proposals, and may receive reimbursement from other successful applicants for activities such as the conduct of analyses for the project, or the collection of samples. Reimbursement to a cooperating lab or researcher that does work for multiple network members may be identified on multiple proposals.

We intend to withhold up to $600,000 of the 2001/2002 Prescott Stranding Grant Program funds from this grant cycle for use for unexpected events such as mass strandings or oil spill events, that may occur throughout the year. In areas where mass strandings occur frequently, or where events such as El Nino can be anticipated, an application in advance of the event can be submitted to cover known costs involved in preparing for a response if consistent with our listed priorities. Network members that have received 2 grants under the competitive process described in this document will also be eligible for these in-year funds for a catastrophic event.

Note that, as described in 15 CFR 24.24(a)(3), contributions from the applicant counted towards the 25 percent matching requirement must be different for each grant application submitted by an applicant; and funds from one Federal grant cannot be offered as matching funds for another Federal grant.

Comment 2: Grants should be made available for catastrophic events as they occur, or before or after they occur. Since they cannot be predicted, this situation should be explicitly addressed within the Grants Program to maximize the opportunities for funding or reimbursement

Response: We will accept applications for unexpected, large, stranding events, including mass strandings or strandings caused by catastrophic events such as oil spills, throughout the year and will fund successful unsolicited applications from retained FY 2002 funds, if appropriated. Upon the occurrence of a catastrophic event, network participants should immediately contact their NMFS Regional Coordinator regarding their intent to submit an unsolicited application. The same application materials listed in this document (see Section III) must be submitted. The application can be considered outside the competitive process if it meets the MMHSRP objectives, outside of the goals listed in the priorities identified in this document (Section II), if justification for a non-competitive (sole-source) award is established.

Comment 3: One network participant asked whether cooperative applications with a federal agency could be submitted.

Response: Federal agencies are generally barred from accepting funds from another source to pay transportation, travel, or other expenses for any Federal employee unless specifically authorized by law. The Prescott Stranding Grant Program does not specifically authorize the transfer of funds to other Federal agencies for grant projects. The statute also requires a non-Federal matching requirement of 25 percent of the grant. Thus, for this first funding cycle, we have made an administrative decision based on guidance from the statute and associated legislative history regarding the intended purpose of these funds that the agencies and employees within the Department of Commerce (DOC) and the Department of Interior (DOI) are not eligible to apply as Principal or Co Investigators and cannot receive compensation from this program beyond costs for analyses conducted as a Cooperator on a project. Eligible network members employed by other Federal agencies (with the appropriate authority to receive Federal Assistance) outside of DOI and DOC will need prior approval from their agency to receive compensation and/or expenses from a Federal grant. Additionally, network participants can submit applications with federal agencies listed as Cooperators on the project, and applications can include reimbursement to federal laboratories conducting analyses for the proposed project.

Comment 4: Two commenters expressed concerns regarding the apparent non-cooperative, competitive nature of the Implementation Plan for the Prescott Stranding Grant Program. Requiring that individual researchers apply for funds with a stranding organization as a sponsoring organization was recommended to encourage cooperation. Additionally, one commenter suggests giving extra weighting to proposals from multiple LOA holders.

Response: Because funds are limited and the needs of the program are not, the Prescott Grant Program is competitive. However, although we have limited the number of awards that can be granted to particular applicants as Principal Investigators during this grant cycle, network members and collaborating scientists can participate on additional projects as Co-investigators or Cooperators, and can receive reimbursement from other successful grant applicants. Additionally, Principal Investigators that are not traditional network participants are required to include network members as Co-investigators on their projects. All applicants are encouraged to reimburse LOA holders and other qualified Network participants for tissue collection, data collection, or any other efforts that will be required for the success of the project.

Comment 5: One commenter stated that a mechanism should be developed to ensure accountability for funded projects through review of completed projects or consideration of past performance for applicants awarded previous funding.

Response: All NMFS grant programs must be administered according to procedures identified through a Departmental Administrative Order (DAO 203-26, see http://www.osec.doc.gov/bmi/daos/203-26.htm). Final reports are required, and internal checklists and procedures for monitoring grants including site visits, will be followed. Although audits are only required if an applicant gets more than $300,000 in Federal funds per year, all grant recipients must make records available for review or audit if requested. Additionally, unsatisfactory performance in prior or current Federal awards will be considered in determining whether or not an application is eligible for funding this year under the Prescott Stranding Grant Program.

Comment 6: A number of individuals and groups that commented indicated that the constituent groups including the organizations involved in existing stranding programs should have been afforded a greater consultative role in the development of the Prescott Stranding Grant Program. They were concerned that there would be no formal public review and comment period for the Draft Implementation Plan.

Response: The statute directed NMFS to consult with the Marine Mammal Commission, US Fish and Wildlife Service (USFWS) and “a representative from each of the designated stranding regions, and other individuals who represent public and private organizations that are actively involved in rescue, rehabilitation, release, scientific research, marine conservation, and forensic science regarding stranded marine mammals'; which includes primarily stranding network participants. Given the broad characteristics of the marine mammal stranding network and further directives to administer this program in a timely manner, the selection of a small group of participants to adequately represent the entire network and associated community was deemed insufficient. The Draft Implementation Plan was, therefore, posted on our website, and Network participants were asked for their input. Over 20 commenters responded with extensive comments; including the Marine Mammal Commission, Network members, interested constituents, and constituent groups. All comments were considered, resulting in many revisions to the Program. Experience and feedback resulting from this solicitation may further modify this program in future years.

Comment 7: Two constituent groups commented that constituents should be consulted, per Congressional intent, regarding the development of criteria for and award of grant money.

Response: The criteria for awarding grant money were included in the Draft Implementation Plan section on Screening, Evaluation and Selection Procedures; therefore, constituents have had an opportunity to comment on these criteria and some modifications have been made. Further, technical reviews will be conducted on all complete and qualified applications. Reviewers will include network participants and other constituents. Network participants and constituent groups will therefore have an active role in the award process under the Prescott Stranding Grant Program.

Comment 8: One commenter asked for clarification regarding whether oceanaria that do not have an Institutional Animal Care and Use Committee (IACUC) need to form one if they are going to conduct live animal research. References on the formation of IACUCs were requested.

Response: Facilities and Universities involved in live animal research are required to have an IACUC, per Animal Plant and Health Inspection Service (APHIS) IACUC requirements. Institutions that do not have an IACUC do not have to form one for this grant cycle. However, those institutions or researchers affiliated with Universities that have a standing Committee have to have their Committee's approval before funds will be obligated for projects that require research on live stranded marine mammals. The language relative to this issue has been clarified in this document.

Note that, within the next few years, NMFS intends to require IACUC reviews for live research conducted on stranded marine mammals. Guidance will be developed at that time for the formation of IACUCs for this specific purpose on an institutional or regional level. For general information on IACUCs, see 9 CFR 2.31 for the APHIS IACUC requirements, as well as The IACUC Handbook edited by Jerald Sivlerman, Mark A. Suckow, and Sreekant Murthy and published by CRC Press in 2000, or The Care and Feeding of an IACUC edited by M. Lawrence Podolsky and Victor S. Lukas and published by CRC Press in 1999.

Any study that requires collection of animals from the wild, invasive procedures beyond those generally used to rehabilitate and release marine mammals, or retention of marine mammals after rehabilitation is complete, may require research or enhancement permits. Funds obligated prior to permit issuance may not be distributed until proper permits have been obtained. For information on permit requirements and applications procedures, contact the NMFS Office of Protected Resources (see CONTACTS) or see the following Web site: http://www.nmfs.noaa.gov/prot_res/PR1/Permits/pr1permits_types.html.

Comment 9: One commenter requested a listing of the MMHSRP goals to provide guidance to prospective applicants.

Response: These statutory goals are listed in the description of the Prescott Stranding Grant Program (Section I.A. of this document), and are repeated here: to facilitate collection and dissemination of data, to assess health trends in marine mammals, to correlate health with available data on physical, chemical, environmental, and biological parameters, and to coordinate effective responses to unusual mortality event. Further information regarding the MMHSRP can be found on our Web page, at: http://www.nmfs.noaa.gov/prot_res/PR2/Health_and_Stranding_ Response_Program/mmhsrp.html.

Comment 10: A commenter suggested that special terms of reference used throughout the Draft Implementation Plan (out of habitat, level A data) should be defined.

Response: We have included in this Notice clarification of such terms when those terms first appear in context within the document.

Comment 11: Two commenters noted that the plan does not provide funds for species under the jurisdiction of the USFWS, such as sea otters, walrus, polar bears, and manatees, and suggested that there should be increased coordination of the stranding programs under the two agencies' jurisdictions.

Response: NMFS and USFWS were given separate authorizing language in the Marine Mammal Rescue Assistance Act of 2000 (Act) which established the Prescott Stranding Grant Program. NMFS received no comments from the USFWS during the comment period, however, NMFS consulted with USFWS on the implementation of this program prior to finalizing this Federal Register notice.

The MMHSRP has been a collaborative effort between USFWS and NMFS, and we will continue that collaboration with the implementation of the Prescott Stranding Grant Program.

Comment 12: One commenter was concerned that the short time allotted for review and incorporation of comments in our initial timeline precluded meaningful revisions based on comments received from stranding network organizations.

Response: This document reflects many changes resulting from the large number of comments received. Indeed review of the comments, revisions, and preparation of responses were partially responsible for the delay in publication of this document. All comments were considered and we made revisions that we determined were appropriate based on consideration of the comments.

Eligibility

Comment 13: A number of commenters indicated that the listed eligibility criteria are too broad and will invite applications from people only remotely associated with the Stranding Network, diluting the intention of the Grant Program to assist or reimburse the active network participants that have been volunteering without Federal support. Some suggested limiting eligibility to Letter of Agreement (LOA) holders, to LOA holders with established records in the recovery and rehabilitation of marine mammals, or to independent researchers sponsored by LOA holders.

Response: Limiting the Prescott Stranding Grant Program only to organizations and individuals holding Letters of Agreement will exclude a large number of active Network participants. In the Northwest Region particularly, there are numerous participants that conduct significant stranding response activities for state or local authorities, or as requested by the NMFS Regional Administrator. Some of these participants are authorized through section 109(h) of the Marine Mammal Protection Act. Additionally, the Network in most regions includes participants designated by LOA holders to respond to strandings and in some cases assist in rehabilitation. These participants include cooperating scientific investigators, institutions, and volunteer organizations. In some areas, designated participants may play a more active role in day-to-day response to strandings than the LOA holders.

LOA holders retain the ultimate responsibility for activities conducted under their authority. Therefore, generally, they restrict designation to individuals that meet appropriate qualifications. Additionally, a list of these designees must be submitted to NMFS. By granting designation, the LOA holders are responsible for ensuring that volunteers and cooperating investigators under their authority are Network participants in good standing. However, we recognize that the list may include new volunteers that require training, or participants that are restricted in response capabilities and authority.

The eligibility criteria have been amended to some extent; however, to include the “in good standing” criteria for network participants operating under MMPA section 109(h) (109(h) responders) or other authority, as well as to LOA holders. Additionally, 109(h) participants must be active participants, that have been involved in network activities over the past 3 years.

Another amendment to the eligibility criteria adds a requirement for applicant scientists holding letters from Regional Administrators to collect specimens from stranded animals to conduct research. These scientists may not be LOA holders, 109(h) responders, or on the Northwest Region's contingency list. These applicants must be able to demonstrate participation in network activities during the past 3 years, and must include a network member as a Co-investigator on the project.

Generally, the NMFS Regional Coordinators are familiar with the active network participants within their region, and their screening will provide some assurance that only applications from active and qualified network participants and Collaborators compete for these limited grants.

Comment 14: Allowances should be made for applications from inexperienced applicants if they seek and receive the appropriate permits or letters of authorization before receiving grant awards.

Response: Applications from new network members, such as individuals or groups that have gotten authorization recently, will likely not qualify for eligibility during this first funding cycle unless those applicants have experience as an active Network participant (for example as a designee or 109(h) responder) in good standing for the past 3 years. During the development of the Act, the intent to provide financial assistance to the active volunteer stranding network was clear. The Act's stated intent is to “provide grants to eligible stranding network participants for the recovery or treatment of marine mammals, the collection of data from living or dead stranded marine mammals for scientific research regarding marine mammal health, and facility operation costs that are directly related to those purposes * * *”, and further notes that preference should be given to “* * * those facilities that have established records for rescuing or rehabilitating sick and stranded marine mammals”. However, newcomers that become active participants in the Network will have opportunities to apply for funds in future years if funds are appropriated.

Comment 15: One commenter suggested that the explanation of “in good standing” referring to permit holders was redundant, since permit holders should be authorized under LOAs or other listed mechanisms for Network involvement.

Response: There are long term, active Network members that receive verbal requests from their Regional Office to respond to strandings and may hold research permits but do not hold LOAs (although NMFS is developing procedures to issue standardized written LOAs nationally). Additionally, this footnote applies to researchers or Principal Investigators that are authorized network participants but also hold research or public display permits. These applicants may not be eligible if they are not in compliance with their permit conditions since lack of compliance implies a potential inability to responsibly fulfill grant requirements.

Comment 16: Two commenters expressed concerns about criteria listed for “in good standing”. Since LOAs have not yet been standardized, all participants may not be complying with the specific responsibilities listed. That commenter also felt that the phrase “in a timely manner” in the first sentence is subjective. Another commenter took special exception to the criteria for timely reporting of Level B and C data upon request by NMFS. Such reporting is not a requirement of most LOAs, and in some cases cannot be done due to conflicting priorities.

Response: The LOAs are currently being redrafted and standardized, in part because many of the existing agreements were prepared before the passage of the Marine Mammal Health and Stranding Response Act. Many of the new reporting and cooperation standards associated with implementation of the MMHSRP have been passed on to Network members as written requests, but as the commenters have noted, may not be reflected in all existing LOAs. We have modified these requirements to note that, while collection of Levels B and C data are not mandatory, timely reporting of these data when they are collected is considered to be an important indicator of cooperation with NMFS and the Network. We believe that network participants that are unresponsive or habitually do not cooperate with NMFS or other network members are not operating “in good standing”, therefore these criteria remain in the modified description.

Comment 17: Two commenters asked why the Northwest Region appeared to apply more restrictive criteria for eligibility than other regions.

Response: The Northwest Region Stranding Network is composed of cooperating scientific investigators and institutions, volunteer individuals and organizations, wildlife and fisheries agencies, and enforcement agencies. The documentation of their participation as members of the Network was initially provided in the Northwest Region Marine Mammal Stranding Network Handbook in the early 1980s. After approximately 15 years of cooperative effort, the participants that remained active were included in the National Contingency Plan for Response to Marine Mammal Unusual Mortality Events in 1996. To date, no LOAs have been issued in the Northwest Region for Network participants that are not otherwise authorized directly, pursuant to Section 109(h) of the MMPA (Federal, state, and local authorities), and the most recent formal documentation of participation, as a cooperating organization, is the 1996 Contingency Plan. However, since 1996, several organizations named in the contingency plan have resigned or otherwise become inactive. Therefore, to identify those participants that are continuing to provide response and data collection services for the Network, it became necessary to include recent participation as performance criterion. The 2001/2002 Contingency Plan is under review internally and will be available shortly. The new Plan identifies participants active since 1996, while removing participants that are no longer active. Once completed and available, the updated Contingency Plan will be used to identify the Northwest Region's active Network participants.

Comment 18: One commenter asked whether all applicants have to be participants in the MMHSRP to be eligible for the Prescott Stranding Grant Program.

Response: Yes, LOA holders and other Network participants described as “in good standing” and, therefore, qualified as applicants for the Stranding Grant Program are participating in the MMHSRP. The Marine Mammal Health and Stranding Response Program, described in the Background section of this document, was established under the 1992 Amendments to the MMPA. The legislative history of the MMHSRP indicates it was developed to direct and supplement the existing stranding network to improve the Network's ability to determine the reasons for marine mammal stranding events, particularly unusual events. Although prior to the 1992 Amendment, the Secretary of Commerce was responsible for authorizing people to respond to marine mammal strandings, the MMHSRP provided the Secretary with more explicit guidance on administration of the Stranding Network.

Comment 19: Two commenters questioned the restriction of the eligibility criteria relating to state and local government response to cetacean strandings without justification for excluding pinnipeds.

Response: This restriction was originally intended to reduce the potential for local governments that rarely or inconsistently participate in the stranding network from applying for funds under the Prescott Stranding Grant Program, while allowing those local agencies that are vital network members to participate. The criteria has now been modified to require MMPA 109(h) applicants to be “in good standing” and active in recent years, allowing pinniped response groups to participate, if they qualify.

Comment 20: One commenter asked whether researchers and organizations outside of the US would be eligible for Prescott Stranding Grant Program funds, particularly for response to mortality events that may have been caused by US activities.

Response: No. The Marine Mammal Rescue Assistance Act and its legislative history clearly indicate that the purpose of this program is to provide some financial relief to active, volunteer, US stranding network participants that have been absorbing the costs of response to marine mammal strandings. There is no provision in the Act nor intention apparent in the legislative history, to provide funds to individuals or organizations that are not part of the U.S. stranding network.

Comment 21: One commenter suggested that, while there is some merit to discouraging the development of new facilities that may be capitalizing on this new granting opportunity, the Prescott Stranding Grant Program may discourage the construction of new facilities where they are needed.

Response: Explicit authorization would be required in the Prescott Stranding Grant Program to fund major new construction projects. Additionally, Congressional intent expressed in the Act, its legislative history, and subsequent clarification from authors of the statute, indicate that the funds are not for new construction or new participation. The purpose of the Prescott Stranding Grant Program is to provide funds for existing facilities and active stranding network participants. A new member of the Network, therefore, may not be eligible to apply for these funds during this grant cycle. However, once they have become active network participants, they may become eligible in future grant cycles.

Comment 22: One commenter indicated that the Alaska Native exemptions under the MMPA allowed marine mammal takes for subsistence and for creating and selling authentic handicrafts or clothing, and allowed the Secretary of Commerce to enter into a cooperative agreement with Alaska Native organizations to conserve marine mammals and to provide co-management of subsistence use by Alaska Natives. Therefore, the commenter suggested that there might be active, trained Alaskan Native participants of the marine mammal stranding program that do not work under an LOA. If an LOA will be necessary to qualify for funding opportunities under the Prescott Stranding Grant Program, applicants should be allowed to obtain authority after the award is granted.

Response: The Alaskan Native exemptions do not include authorization to respond to and collect materials from stranded animals as part of a specific stranding response; e.g. to fulfill Level B and C data collection protocols. Rather, under this exemption they can take marine mammals for subsistence or handicrafts. Currently, all Alaskan Natives that are responding to strandings and providing reports to the Regional Administrator are authorized under an LOA and are eligible for funding under this Program. The intent of the Program is to provide funds to the existing volunteer network. Therefore, individuals or organizations cannot apply for the funds before they are participating in the stranding network.

Priorities

Many comments were received that suggested concerns regarding the intent of the priority lists. To clarify: the purpose of the priority list is to guide applicants in proposal development by identifying those proposals that will best compete during this grant cycle for these limited funds, and to provide technical reviewers with guidance for their evaluations. To this end, each region identified those priorities that will best ensure that the Prescott Stranding Grant Program is successfully implemented (by providing grants for the recovery or treatment of marine mammals, the collection of data from living or dead stranded marine mammals for scientific research regarding marine mammal health, and facility operation costs that are directly related to those purposes) in the manner that best helps the regions achieve the goals of the Marine Mammal Health and Stranding Response Program. To ensure that the goals of the Prescott Stranding Grant Program are met, including equitable distribution of funds, proposals will be pooled by regional or national aspect according to which priorities are addressed by the applicant. Proposals will then compete for funds within these pools. Technical reviewers that are applicants in one pool may be among the reviewers for applications from another pool.

Comment 23: Commenters indicated that the most critical funding areas are for equipment, supplies, and travel. They suggested that the agency appeared to be supplanting these critical needs with agency policy preferences, and indicated that each of these sets of interests should be addressed within this program.

Response: The priorities identified in the Draft Implementation Plan were developed under the categories designated in the Act establishing the Prescott Stranding Grant Program. We agree that they were selected to successfully implement the Program through the MMHSRP, which was established by Congress in the 1992 Amendments to the Marine Mammal Protection Act, in part, to guide the Agency on administration of the stranding network. The priorities have been reordered in this document to incorporate the operational cost projects into the two project categories identified in the Act: rescue and rehabilitation, and data collection. This reordering may reduce concerns expressed by the commenters that applicants for a grant for operational costs will receive low ranking. Actually, in this first funding cycle, we anticipate that 60 to 70 percent of the funds (depending on the number of eligible and complete applications and their federal costs) may be awarded for proposals for operational costs. Operational costs can include, for example; salaries, equipment for rehabilitation efforts, food for rehabilitating animals, water testing, water filtration upgrades, necropsy equipment, gasoline, computer equipment to track materials collected from stranded marine mammals, etc.

Comment 24: Three commenters indicated that the priorities appear to be geared more towards live marine mammal strandings, however the majority of stranding activities relate to dead marine mammals. One of the commenters specifically expressed concern about this apparent bias in the National and Southeast data collection priorities, and pointed out that since fewer than 15 percent of all Southeast marine mammal strandings are live, improved data collection efforts on all dead stranded marine mammals would be more cost effective than increasing efforts on the live strandings.

Response: Priorities are listed for both live and dead marine mammal strandings. No indication of an Agency preference exists or was intended. For the Southeast Region in particular, most of the data collection priorities listed apply to improved data collection from dead stranded marine mammals.

Comment 25: One commenter suggested that the funding priority list provided in the Draft Implementation Plan should be narrowed considerably to allow applicants to compete successfully for funds for ongoing activities to help defray the enormous cost of recovery and rehabilitation of stranded marine mammals rather than focus on the new or unmet research needs of NMFS.

Response: The priority list was developed to provide guidance to applicants on priorities that would successfully compete for funds by achieving the stated objectives of the Prescott Stranding Grant Program: “the recovery or treatment of marine mammals, the collection of data from living or dead stranded marine mammals for scientific research regarding marine mammal health, and facility operation costs that are directly related to those purposes.” We have revised the priority lists to fold the priorities related to operational costs into the two categories of recovery or treatment, and data collection, to illustrate the integral need for funds for operational costs that support these two objectives.

Comment 26: One commenter suggested that priorities should include the recovery and collection of tissues (including equipment costs) from individual stranding events to establish a database of baseline information to compare against anomalous events.

Response: This recommendation is consistent with listed National Priorities, including participation in the National Marine Mammal Tissue/Serum Bank and establishing health reference data on species subject to unusual and mass strandings.

Comment 27: One commenter suggested that long-term (5-15 years) archival of tissues already takes place in a few stranding organizations and those should receive priority for data analyses.

Response: A proposal to conduct a collaborative, retrospective effort to analyze archived samples held by network participants would be consistent with a number of the listed priorities. Anyone interested in using tissues archived in the National Marine Mammal Tissue Bank should follow the tissue access policy published in the 1994 Marine Mammal Health and Stranding Response Program: Program Development Plan. This report can be found on NMFS Office of Protected Resources Reading Room Web page, at: www.nmfs.noaa.gov/prot_res/readingrm/MMHealth/mmhealth.pdf, and the access policy can be found on pages 33 to 35. Alternatively, please contact the Office of Protected Resources (see CONTACT information) for a hard copy. Note that a new access policy is currently under review in NOAA and is anticipated some time in the next year, after grants have been awarded in this grant cycle.

Comment 28: In addition to the several health-related priorities outlined in the Draft Implementation Plan, one commenter believes it would be appropriate to also consider research projects dealing with basic aspects of life history (e.g., age, growth and reproduction) and ecology (e.g., feeding) of marine mammals, particularly those of the special concern (listed in B.2).

Response: Both the Act establishing the Prescott Stranding Grant Program, and the MMHSRP, prioritize research related to the health of marine mammal populations. Projects that collect life history information could be consistent with these statutory priorities if they are conducted to identify health trends or establish and interpret health reference data.

Comment 29: For species of concern, pooling of samples and research efforts should be encouraged to enable investigators to properly address ecological questions and health issues with an appropriate number of samples. Data and samples from Kogia, for example, exist in various locations which, if properly analyzed could provide information on diet, reproductive biology, and aging that would be crucial for successful rehabilitation and release of live-stranded animals.

Response: A collaborative project such as the one proposed could be competitive, and addresses the national priorities to identify health trends and establish health reference data.

Comment 30: Priority should be given also to rescue and rehabilitation of endangered and threatened species.

Response: Although strandings of listed species are relatively rare, these strandings usually do receive elevated response efforts. Because it is impractical to plan and maintain preparedness for rare events, we believe that establishment of a Network that effectively responds to all events may be the best way to ensure adequate response to a listed species stranding.

Comment 31: NOAA fisheries is already preparing a web-based national stranding database, and already has funding for right whale response, and the Unusual Mortalities Working Group, therefore these should not be listed as priorities for a grant.

Response: The right whale and Unusual Mortalities efforts are existing funded programs, and related priorities have been removed from the priority list. However, the priority related to a national stranding database has been modified to reflect its intent to encourage proposals to improve network members' data collection and input capabilities—for example to fund salary for a data management person for data entry for a network member, to upgrade computers, etc. The priority has been reworded to better identify this intent.

Comment 32: A commenter suggested that the National priority related to “upgrading equipment for electronic access to the national stranding database * * *” should be repeated as a Southwest Regional priority.

Response: This is not a regional priority for the funding year. However, an applicant from the Southwest can submit a proposal to upgrade equipment for this reason under the National Priority. That application would then compete for funds within the National pool rather than the Regional pool.

Comment 33: Priorities that are listed in multiple regions might be combined as national priorities, i.e., public education and the development of oil-spill responses.

Response: Because proposals will compete within regional or national “pools”, depending on the priorities addressed, we have elected to keep overlapping priorities separated. The scope of the project, along with the applicant's statement regarding the priority addressed, will then determine which pool a proposal will compete within.

Comment 34: The impetus for the Program was to provide funds to those facilities that for years have been absorbing the rising costs of stranding response and rehabilitation. This should be listed in the National Priority sections, as the number one priority.

Response: We agree that recognition of the volunteer stranding network was the impetus for the development of the Prescott Stranding Grant Program. However, the Marine Mammal Rescue Assistance Act's objectives do not include awards for historical participation, nor are federal grants the appropriate mechanism for reimbursement of funds for prior year efforts. While reimbursing Network participants for past efforts is not listed as a priority for implementation of this Program, eligibility to compete for funds under this Program is based in large measure on past and continuing participation as an active Network member.

Comment 35: Priorities seem to impose the specter of additional work (research proposal to obtain grant funds) on long-time volunteer stranding network participants struggling to fund current operations related to their already significant responsibilities.

Response: The Prescott Stranding Grant Program is obviously not mandatory and is not intended to place additional requirements on network participants. The competitive application process is required by the Department of Commerce Federal Assistance funding policies. Note, though, that operations costs will be funded with a successful grant application, therefore network participants can receive funds for operational costs for the upcoming year.

Comment 36: There are no regional priorities to fund people and equipment to help network participants. The 1-year term precludes continued help in offsetting additional staff costs. Applicants and reviewers should have broader discretion and more flexibility regarding how to apply the priorities.

Response: Operational costs are a national priority and all of the regions list priorities that encompass equipment and salaries, though these may be identified by phrases such as “enhance operations”. The Prescott Stranding Grant Program relies on annual appropriations, therefore we cannot provide assurances during this first funding cycle regarding the availability of funds in the future. We have revised and reordered these priorities to provide applicants with specific guidance, while allowing reviewers some discretion in assessing competitive applications.

Comment 37: A commenter suggested that priorities for methods or equipment should identify the conservation or management purpose.

Response: In this Request For Proposals, we have folded operational cost priorities into the two categories of “Recovery, Treatment and Release”, and “Data Collection”. Applicants for operational costs are directed to identify how those costs meet the needs identified under these priorities. For example, a proposal for funds to cover veterinary costs, animal food, pool filtration devices, and water quality tests should be justified by identifying how these costs relate to needs for treatment and recovery of the types and numbers of strandings anticipated for a particular facility. Alternatively, a proposal for necropsy equipment, vehicle costs, salary for a stranding technician, costs of serological analyses, and equipment upgrades to allow access and data entry capabilities for the national stranding database would be justified under the Data Collection objective.

Comment 38: A commenter suggested that, in addition to the basic needs that should be funded by the Prescott Stranding Grant Program, substantial funds should also be provided to study the survival rates and ecological role of rehabilitated individuals once they are released.

Response: Monitoring the survival of released animals is listed as a National, Northeast (under their data collection priorities in the Draft Implementation Plan) and Alaska Region priority. While important, this is not considered a high priority for the upcoming year by the other regions.

Comment 39: One commenter asked for clarification regarding the lack of Northwest Regional priorities for recovery and treatment of marine mammals.

Response: Although the Northwest Region did not list priorities under the “Recovery and Treatment” category in the Draft Implementation Plan, their “Facility Operations Costs” priority list included enhancement of facilities and network operations related to handling and treating sick and injured marine mammals. In this document these priorities have now been folded into the “Recovery, and Treatment” category.

Comment 40: Under the “recovery and treatment” priorities list, one commenter suggests that the Northeast Region should add the formation of a committee or working group to review and recommend response to out of habitat situations.

Response: Currently, the NMFS National Coordinator consults with existing working groups, such as the Unusual Mortalities Working Group, the Pinniped or Cetacean Release Criteria consultants, or ad hoc groups that include experts on the species of concern, to develop proper response to out-of-habitat events. Funds for response, when necessary, have generally come from existing sources of money. Rather than requesting a proposal through the Prescott Stranding Grant Program for the formation of a regional committee, the National Coordinator will take the lead in formalizing this process if it becomes necessary.

Comment 41: A commenter suggested that the NMFS Northeast Regional priority related to outreach efforts in areas where humans and protected species overlap should not identify specific areas since there are many areas of concern, and should focus primarily on reducing effects on the population, versus reducing the subsequent need for rehabilitation.

Response: The Region intended that this priority invite proposals to reduce injuries currently caused by the effects of human interactions with marine mammals on or near breeding grounds, and particularly at rookeries. Reducing the need for rehabilitation is an appropriate primary goal under the priority category of “Recovery, Treatment or Release”, but since the priority is not intended to be site-specific, rookery names are no longer listed. We agree that the overall goal should include reduction of the effects of human interactions on the health of marine mammal populations due to, for example, habitat loss or transmission of disease and nuisance behaviors from facilities to the wild.

Comment 42: One commenter suggested that we add Erysipelothrix rhusiopathiae to the list of priority diseases to be investigated in 2001-2002.

Response: The FY 2002 Conference Report (House Report 107-278) provides $150,000 for Erysipelothrix rhusiopathiae this fiscal year. Due to this special appropriation, we believe E. rhusiopathiae does not have to be included in the priorities for the Prescott Stranding Grant Program this year.

Comment 43: One commenter asked that priority be given to applications for data collection grants from smaller facilities in all regions, and another one asked that priority be given to smaller facilities for stranding response and live animal treatment.

Response: There is no indication of Congressional intent to constrict the ability for all network participants to compete equally for these funds, nor was it identified as a priority by all regions. However, the Southwest Region has determined that for their Region, applicants from smaller facilities will receive priority for stranding response and live animal treatment.

Comment 44: A commenter suggested that the Southwest Region's priority identified as “conducting complete necropsies on dead California sea lions to determine the incidence of human interactions such as gunshot” be changed to “conducting complete necropsies, including histopathology on all marine mammals that die or are euthanized in marine mammal rehabilitation centers to determine cause of death or euthanasia'.

Response: The suggested modification is actually quite different from the stated priority. During this funding cycle, providing funds for necropsies on animals that die during rehabilitation efforts is not a regional priority; therefore, this priority has not been added to the Southwest Region's list. However, a request for funds to conduct ongoing procedures such as this one could be included in a proposal for operational costs under the Southwest's rescue and rehabilitation priority to enhance stranding response and live animal treatment in smaller facilities, if necropsies are conducted to provide information necessary to monitor and improve the effectiveness of treatment practices.

Comment 45: One commenter suggested that network participants that collect tissues and data be compensated for their efforts, rather than restricting compensation to those that are conducting analyses or research with the data or tissues.

Response: Applicants for projects that require input from other network participants are asked to include reimbursement costs to the LOA holder or Network member collecting materials from stranded marine mammals, and to include those network participants as Cooperators on their proposal.

Comment 46: A number of commenters stated that this program should not fund a national stranding workshop.

Response: This priority has been removed from the list because it was too similar to a procurement, which is an inappropriate application of this grant program.

Comment 47: A commenter suggested that protocol for response to individual live strandings and criteria for rehabilitation candidates should be developed to provide facilities with guidance regarding basic indicators of animals that can be successfully rehabilitated.

Response: Rehabilitation and release criteria, currently under development by the MMHSRP National Program staff, will address this need to some extent. In the interim, the NMFS National and Regional coordinators often call on an ad-hoc group of experts for advice on live stranding response. If further guidance is deemed necessary after release criteria are finalized, NMFS will establish another group of consultants to further develop a beach-triage protocol, such as that identified by the commenter. Funds from the Prescott Stranding Grant Program will not be needed to support this effort.

Comment 48: One commenter suggested that a priority to “achieve consistent Level A data collection and encourage Level B and Level C data collection for dead strandings whenever possible along all U.S. coasts” be added to the list of priorities in each region.

Response: This priority was added to the National Data Collection priorities, and related regional priorities have been amended, to reflect this goal of the MMHSRP.

Comment 49: The Northeast Region priorities should include one similar to the first priority on the Southeast Regional list regarding enhanced collection and evaluation of human interaction evidence from stranded marine mammals.

Response: This priority has been added to the list of the priorities for the Northeast Region. Costs for training network members to detect and document human interaction evidence are requested for inclusion in the proposed budget.

Comment 50: One commenter suggested that expansion of this grant program to include sea turtles would be useful.

Response: The Prescott Stranding Grant Program was instituted as an amendment to the MMPA, and does not cover sea turtle stranding response.

Comment 51: One commenter asked for an explanation of “cooperative projects * * * to achieve Marine Mammal Health and Stranding Response objectives” as listed in the Northeast Regional priority 1.

Response: Marine mammal strandings are a valuable source of information and material for studies that support the MMHSRP goals, particularly when response includes in-depth necropsies and data or tissue collection. The value of each stranding event, particularly of fresh dead animals, can be maximized by reaching out to experts from a variety of backgrounds. With this priority, the Northeast Region is encouraging network members to submit proposals to conduct studies supporting MMHSRP goals through partnerships with a variety of experts, including some that may not be within the current network.

Comment 52: One commenter asked that we mention something directly related to necropsy sample archive/storage in the priority regarding archival of samples.

Response: Numerous published protocols exist regarding appropriate sampling methods for real-time analyses or for archival of samples for specific research purposes (genetic studies, development of health reference data, health trend monitoring, etc.). For example, sampling protocols are included in two publications posted on the NMFS Protected Resources Web site, at: http://www.nmfs.noaa.gov/prot_res/readingrm/Protocols/pinnipednecro.pdf and, http://www.nmfs.noaa.gov/prot_res/readingrm/NIST4529.pdf.

Comment 53: One commenter suggested that the development of greater capacity in existing rehabilitation facilities should be added to the priority for facility renovations in the Northeast Region.

Response: The priority for the Northeast Region has been broadened to “Renovating rehabilitation space for marine mammals, to include expansion of holding capabilities within existing facilities.” This priority includes facility improvements, as well as renovations that result in greater capacity, such as the addition, repair, or replacement of pools. The intent of the Prescott Stranding Grant Program, however, is not to fund the construction of entirely new facilities.

Comment 54: One commenter identified a study of the pox virus in seals and its effect on both survivability and releasability of these animals as a priority for the Northeast Region.

Response: Seal pox is an emerging problem in the Northeast Region, particularly with the recent increase in ice seal strandings. Although this is not one of the priority diseases for this funding cycle, a proposal to study this problem could be submitted under the national priority to evaluate the incidence and impacts of marine mammals diseases, which has been expanded to include diseases that effect survival of marine mammals. Note that a study that requires collection of animals from the wild or invasive procedures beyond those generally used to rehabilitate and release marine mammals may require research or enhancement permits. Funds obligated prior to permit issuance may not be distributed until proper permits are in place. Information on permit requirements and applications procedures can be found at: http://www.nmfs.noaa.gov/prot_res/PR1/Permits/pr1permits_types.html.

Comment 55: One commenter indicated that priorities in the Northeast Region, and perhaps nationally, should include a study on the survivability of marine mammals that have been released after treatment for severe lung worm infections.

Response: Monitoring of released animals to evaluate success is a National, Northeast, and Alaska priority. Additionally, although a study of the effects of lungworm infections on survival of released marine mammals has not been listed as a specific priority disease for this funding cycle, a proposal to study this problem could be submitted under the expanded National priority to evaluate the incidence and impacts of diseases and conditions that affect survival of marine mammals. Note that a study that requires procedures beyond those generally used to rehabilitate and release marine mammals, such as measurements of dive profiles of recovering or rehabilitated animals, may require research or enhancement permits. Funds obligated prior to permit issuance may not be distributed until proper permits are in place. For information on permit requirements and applications procedures, call the NMFS Office of Protected Resources (see CONTACTS) or view the following Web site: http://www.nmfs.noaa.gov/_res/PR1/Permits/pr1permits_types.html.

Comment 56: One commenter suggested that establishing a native liaison in Alaska should be a priority to effectively bridge and conduct outreach between the stranding network and the many different cultures found along coastal Alaska, and to conduct outreach and increase awareness of and response to strandings.

Response: A proposal from a network member, or a group of network members, to establish this type of position could address the Alaska Region's priority to enhance stranding response throughout the state.

Comment 57: One commenter suggested that funds are needed to facilitate response to strandings in remote areas in Alaska due to the high cost for gasoline and other commodities in these areas.

Response: The priorities have been revised and re-grouped in this Request For Proposals. Under these revisions, a successful proposal for these funds could be submitted as operational costs under Alaska's priority to enhance stranding response in rural areas.

Comment 58: One commenter suggested that, if possible, samples should be collected from stranded marine mammals along the Alaska coastline for potential genetic analysis, contaminant analysis, parasite, pathology, and other studies.

Response: The Alaska Region's priority to improve level A data collection has been amended to encourage Level B and C data collection. A successful proposal that would result in increased sample collection following appropriate protocols would address this priority.

Comment 59: One commenter strongly supported the need to expand and support an “infrastructure” for a better stranding response in Hawaii, and suggested that this should be among the highest priorities for the Region.

Response: The priorities are not ranked, rather all of those listed for this grant cycle are high priority for each of the Regions. Note that this priority has been revised to reflect the need to promote collaboration among network members in Hawaii.

Comment 60: Two commenters supported an addition to the Northeast Region's priority to enhance necropsy facilities, as well as other equipment and enhancements to improve level B and C data collection and scientific research.

Response: A priority has been added to the Northeast Region's list to “Enhance necropsy facilities and other improvements to achieve consistent Level A data collection and encourage Level B and Level C data collection for dead strandings whenever possible.”

Comment 61: One commenter suggested that it was very important to improve the necropsy techniques of the stranding program in the Northeast Region.

Response: An application to develop training materials, acquire, or conduct necropsy training throughout the Northeast Region could be successfully submitted under the priority to encourage level B and C data collection. Travel funds for network participants should be included in the application, if possible.

Comment 62: One commenter indicated that the Southwest Region's priorities did not include facility operations costs, which should be explained.

Response: The Southwest and Southeast Regional operational priorities were mistakenly combined in the Draft Implementation Plan. The Southwest included 5 operational priorities, now folded into their Rescue and Rehabilitate priority list in this document.

Funding

Comment 63: One commenter asked whether NOAA/NMFS will consider partial funding for acceptable projects if more proposals meet funding criteria than money is available.

Response: Following the NOAA Grants process, after a project has successfully competed and been selected for funding, pre-award negotiations occur between the applicant and NOAA/NMFS representatives. This process can include agreements to partially fund projects that otherwise fall below the available funding level.

Comment 64: A number of commenters indicated that the Federal share of the grant is supposed to be $100,000, with an additional 25 percent for non-federal matching funds.

Response: We originally interpreted the Marine Mammal Rescue Assistance Act's language limiting the grant to $100,000 to be consistent with general grant principles that define a grant as including both the Federal and non-Federal share. However, after soliciting further clarification and reviewing the legislative history of the Act, we have determined that there is sufficient information to reveal Congressional intent to limit the Federal portion of the award, not the amount of the grant itself, to $100,000. We have changed the guidance in this document to reflect this new interpretation; the Federal (75 percent) portion of the grant will be up to $100,000 and the non-Federal match will be a minimum of 25 percent of the total grant amount. For a project for which 75 percent of the grant is the maximum $100,000 in Federal funds, a minimum of $33,334 in matching funds (25 percent of $133,334) would be required. Note that proposals can be submitted for projects costing more than $133,334, however the Federal share can be no more than $100,000.

Comment 65: One commenter asked that NMFS clarify that the non-Federal match can consist of in-kind services.

Response: The cost sharing discussion in the Draft Implementation Plan specifically stated that cost share requirements could be met with in-kind contributions and included a long discussion regarding in-kind contributions. This discussion has been repeated in this document, and it cites the Federal regulations regarding cost sharing requirements.

Comment 66: One commenter asked that NMFS explain the phrase “ * * * not required to award any specific grant or cooperative agreement, nor are we required to obligate the entire amount of funds provided.”

Response: This language is standard for Notices soliciting applications for discretionary Federal assistance funds. The language makes clear that the Notice does not infer entitlement rights to the funds to any applicant. The final selection decisions, funding amounts and project descriptions will be decided by NOAA.

Comment 67: Three commenters requested clarification or justification for the agency's decision not to fund any multi-year projects this year, despite the fact that many scientific research projects, particularly those relating to trends in marine mammal health, yield more beneficial results over time.

Response: Based on the guidance we have received regarding Congressional intent, we have decided to implement the Prescott Stranding Grant Program during this first funding cycle in a manner that broadly distributes the funds and that does not foreclose future options by obligating future funds that may be appropriated. Additionally, there is no guarantee that future funds will be available, since they depend upon annual appropriations from Congress. Therefore, for this grant cycle, we have decided not to fund projects that require funding obligations in future years. As noted in the Draft Implementation Plan and in this document, we will fund a project for up to 3 years if the Federal share of the project does not exceed $100,000 for the entire duration of the project. Additionally, if work will continue for some period after the money is obligated, the grantee may notify the grants manager and request a no-cost extension for the grant. We will revisit this policy for upcoming grant cycles, and foresee the possibility that multi-year proposals may be accepted in the future.

Comment 68: Two commenters suggested that recognition should be afforded for the applicant's efforts to value cost sharing portion of items, including in kind contributions.

Response: NMFS will follow the Federal guidelines regarding consideration of the valuation of cost sharing proposals, including in-kind contributions. These guidelines are summarized in the Draft Implementation Plan and in this Notice, and are detailed in the regulations found at 15 CFR 14.23 and 24.24. For successful applications, lingering questions regarding cost sharing can be resolved during the negotiations that follow selection of applications.

Selection/Review Process

Comment 69: A number of commenters asked how the funds will be equitably distributed among the Regions.

Response: Applications will compete regionally; that is, they will be reviewed, evaluated, and ranked on a regional or national basis depending on the priority addressed by the applicant. As discussed in the implementation plan, once an evaluation has been conducted, MMHSRP staff, with input from the NMFS Regional Administrators and Office Directors, the Marine Mammal Commission, and the USFWS, will develop recommendations for equitable distribution of the Prescott Stranding Grant Program funds among the NMFS stranding regions. Justification for distribution will consider recent strandings statistics, including the occurrence of episodic events such as El Nino, as well as anomalous stranding events and recent unusual mortality events. The Assistant Administrator for Fisheries will review the recommendations and comments of the review team and ultimately determine the projects to be funded.

The distribution formula chosen this year may be revised in future funding cycles. Qualified applications during the year to address unanticipated catastrophic events, such as mass strandings, will be funded non-competitively, likely on a first-come first-serve basis.

Comment 70: One commenter indicated that the success of the proposal at addressing listed priorities did not appear to be considered in the ranking and scoring criteria.

Response: The initial screening process will ensure that only applications that are qualified, which include those that address the listed priorities, receive further review by technical reviewers. Additionally, the guidance to technical reviewers includes consideration of soundness of project design, which as described include consideration of how the project achieves the goals of the MMHSRP and the Prescott Stranding Grant Program.

Comment 71: One commenter suggested that a 10 percent criteria be added to consider how well the proposed study builds collaboration and/or extends the capabilities of the program or project.

Response: We recognize and encourage collaborative efforts, particularly for data collection projects, and have included collaboration as a factor to be considered by technical reviewers when weighting experience and qualifications of personnel. In future years, we will consider adding a weighting criteria for collaboration such as the one suggested

Comment 72: One commenter requested clarification regarding two aspects of scoring, ranking, and selection guidance in the draft implementation plan; noting that the “acceptable technical score” appeared to be arbitrary and unspecified; and questioning the meaning of the statement that awards may not be made to all of the highest technically ranked applications. The commenter suggested that the applications should be ranked, redundant applications with lower scores should be removed from the list, and then all funds should be distributed down the ranks until funds are depleted.

Response: To ensure that Federal funds administered through grants programs are distributed responsibly, we have established a minimum standard that must be met for an application to be considered for funding. Commonly, only applications for Federal funds that receive excellent or very good scores from peer reviewers are further considered for funding, or alternatively, numerical standards are established based upon the historical scores and rankings of applications received during previous grant cycles for a particular program. Because the Prescott Stranding Grant Program has no previous grant cycle to draw upon, we have selected a minimum standard of 60 percent, similar to that used academically to denote a failing grade. This 60 percent cut-off is identified in the first paragraph of the Technical Evaluation section in the Draft Implementation Plan. Applications that cannot achieve a minimum score of 60 percent will not be considered for funding during this funding cycle, and applicants will receive a summary of comments from the panel and review teams.

The statement that not all of the highest technically ranked applications may be awarded grants reflects standard NMFS grants language when a selecting official reserves the discretion to use policy factors to make final agency funding decisions. The Assistant Administrator is the Selecting Official for the Prescott Stranding Grant Program, and final selections are essentially at his discretion, within the constraints identified in this document. In this case, the Selecting Official can deviate from panel ranking recommendations, even if an application has received a high ranking, if he has policy concerns about costs, need, geographical distribution of projects, duplication with other federally funded projects, or equitable distribution of funds among the regions. However, any deviations from panel recommendations must be justified in writing and based on the policy factors that are identified in the notice.

Comment 73: One commenter suggested that we include a participant from the Working Group for Marine Mammal Unusual Mortality Events in the grant review and selection process to ensure the working group's concerns are represented.

Response: Past and present members of the Working Group will be among those asked to participate on the technical review panel.

Comment 74: One commenter suggested that at least one member of the panel should be an individual from a marine mammal rehabilitation center in a managerial position and intimately involved in the day-to-day activities of animal care and treatment, and suggested this should be noted in our discussion of the review panel process.

Response: We will be contacting dozens of individuals from varied organizations, including network participants, rehabilitation facilities, government managers and scientists, academics, and constituent groups, to ask them to volunteer to participate as technical reviewers of Prescott Grants proposals. The total number of reviewers that will be selected depends on the number of volunteers, the number of applications that come in, and the priorities addressed on those applications. At least two panels will be necessary, to divide west coast, east coast, and headquarters proposals into 2 review pools. Reviewers will be assigned to each panel in a manner that prevents conflict of interest (for example, applicants will not be able to review other applications within their competitive pool), and that applies reviewers' areas of expertise appropriately. Given these goals, while it is likely that panelists will include reviewers that are senior staff at rehabilitation facilities, we cannot require nor ensure that this will be the case.

Comment 75: One commenter expressed concern that the initial “regional review of proposals”, rather than the simultaneous coordinated review indicated in the law, could unfairly or inconsistently preclude meritorious proposals from the review mandated by Congress.

Response: NMFS grant procedures require an initial review of proposals for completeness of applications, and to determine whether the minimum program and eligibility requirements are met. The initial review will not include determinations regarding the merits of the proposals beyond whether or not the proposal addresses one of the priorities established for this grant cycle. Note that in this document, we have increased the period allowed for application preparation beyond that forecasted in our original timeline. We encourage applicants to apply early so that problems found during these initial reviews, such as incomplete forms, can be resolved prior to the end of the application period. Note that we are under no obligation to do these early reviews, however, and insufficient time and resources may preclude our ability to return early proposals for completion.

Comment 76: One commenter indicated that the screening and evaluation process should closely track the three important activity areas identified by Congress so as not to discourage applications for less lofty but much needed existing stranding efforts.

Response: In the Draft Implementation Plan, the priorities listed for the Prescott Stranding Grant Program were listed under the three categories identified by Congress. The priorities have been revised in this document by folding the operational priorities into the rehabilitation and release, and data collection categories. This reordering, as well as many of the responses to comments in this section, should more explicitly illustrate our interest in receiving proposals for operational costs that support ongoing stranding network efforts. Our guidance to technical reviewers includes weighting factors that favor proposals that are consistent with these listed priorities.

Comment 77: One commenter suggested that reviewers should be made familiar with the specific exemptions under the MMPA for coastal Alaska Natives.

Response: We will ask all technical reviewers to read this document completely prior to reviewing applications. The discussion of the Alaska Native exemptions in the comments and responses will provide them with important background for reviewing Alaskan proposals.

Application

Comment 78: One commenter indicated that the grant application forms are not well designed for this program, and included irrelevant fields and insufficient space to describe the proposed project. A template would be useful.

Response: The Federal grants process requires submission of a number of forms, that are currently generic. Very few specialized forms exist for specific grants programs, however, one can be developed for the Prescott Stranding Grant Program. Once developed, the form must be reviewed and approved by the Office of Management and Budget to be consistent with the Paperwork Reduction Act. The development, public review, and approval of a specialized form may take up to 2 years. Depending on the administrative demands of implementation of the Prescott Stranding Grant Program, we will look into modifying these forms in the upcoming year.

Section III D. of this document provides an outline for the project description, which can be up to 10 pages long and is an attachment to the application form, not a section of the form.

Some assistance in filling out the required forms and in avoiding common problems can be found at the NOAA Grants homepage, specifically, at: http://www.rdc.noaa.gov/grants/index.html. We have also posted an application package, as well as a mock application, and questions and answers related to applications for the Prescott Stranding Grant Program on our Web site at: http://www.nmfs.noaa.gov/prot_ res/PR2/Health_and_Stranding _Response_Program/Prescott.html.

Classification

Prior notice and an opportunity for public comments are not required by the Administrative Procedure Act or any other law for this notice concerning grants, benefits, and contracts.

Furthermore, a regulatory flexibility analysis is not required for purposes of the Regulatory Flexibility Act.

This action has been determined to be not significant for purposes of Executive Order 12866.

Applications under this program are subject to Executive Order 12372, “Intergovernmental Review of Federal Programs.”

Notwithstanding any other provision of law, no person is required to respond to, nor shall any person be subject to a penalty for failure to comply with, a collection of information subject to the requirements of the PRA unless that collection of information displays a currently valid OMB control number.

This document contains collection-of-information requirements subject to the Paperwork Reduction Act (PRA). The use of Standard Forms 424, 424A, 424B, and SF-LLL have been approved by OMB under the respective control numbers 0348-0043, 0348-0044, 0348-0040, and 0348-0046.

Dated: January 4, 2002.
William T. Hogarth,
Assistant Administrator for Fisheries, National Marine Fisheries Service.

[FR Doc. 02-783 Filed 1-11-02; 8:45 am]

BILLING CODE 3510-22-P